DEPARTMENT OF DEFENSE

Office of the Secretary

[Transmittal Nos. 11-31]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 11-31 with attached transmittal, policy justification, Sensitivity of Technology, and Sec. 620C(d) Certification.

Dated: October 31, 2011.
Aaron Siegel,
Alternate OSD Federal Register Liaison Officer, Department of Defense.

BILLING CODE 5001-06-P

BILLING CODE 5001-06-C

Transmittal No. 11-31

Notice of Proposed Issuance of Letter of Offer Pursuant to Section 36(b)(1) of the Arms Export Control Act, as amended

(i) Prospective Purchaser: Turkey.

(ii) Total Estimated Value:

Major Defense Equipment * | $65 million.
Other | 46 million.
Total | 111 million.
* As defined in Section 47(6) of the Arms Export Control Act.

(iii) Description and Quantity or Quantities of Articles or Services under Consideration for Purchase: Three (3) AH-1W SUPER COBRA Attack Helicopters, seven (7) T700-GE-401 engines (6 installed and 1 spare), inspections and modifications, spare and repair parts, personnel training and training equipment, publications and technical documentation, U.S. Government and contractor engineering, technical, and logistics personnel support services, and other related elements of logistics support.

(iv) Military Department: Navy (USMC) (SDH).

(v) Prior Related Cases, if any: FMS case SCD-$58.9M-13Jun90.

FMS case SCG-$55.2M-17Sep93.

(vi) Sales Commission, Fee, etc., Paid, Offered, or Agreed to be Paid: None.

(vii) Sensitivity of Technology Contained in the Defense Article or Defense Services Proposed to be Sold: See Annex attached.

(viii) Date Report Delivered to Congress: 28 October 2011.

Policy Justification

Turkey—AH-1W SUPER COBRA Attack Helicopters

The Government of Turkey has requested a possible sale of three (3) AH-1W SUPER COBRA Attack Helicopters, seven (7) T700-GE-401 engines (6 installed and 1 spare), inspections and modifications, spare and repair parts, personnel training and training equipment, publications and technical documentation, U.S. Government and contractor engineering, technical, and logistics personnel support services, and other related elements of logistics support. The estimated cost is $111 million.

Turkey is a partner of the United States in ensuring peace and stability in the region. It is vital to the U.S. national interest to assist our North Atlantic Treaty Organization (NATO) ally in developing and maintaining a strong and ready self-defense capability that will contribute to an acceptable military balance in the area. This proposed sale is consistent with those objectives.

The proposed sale will improve Turkey's capability for self defense, modernization, regional security, and interoperability with U.S. and other NATO members. AH-1W helicopters are already in the Turkish Land Forces Command inventory and will further enhance Turkey's ground defense capabilities. Turkey will have no difficulty absorbing these helicopters into its armed forces.

The proposed sale of these helicopters will not alter the basic military balance in the region or U.S. efforts to encourage a negotiated settlement in Cyprus.

There will be no prime contractor associated with this proposed sale. There are no known offset agreements proposed in connection with this potential sale.

Implementation of this proposed sale will require the assignment of approximately five contractor representatives to Turkey for a period of up to 90 days for differences training between U.S. and Turkish AH-1Ws helicopters.

These aircraft will be sold from the United States Marine Corps' (USMC) inventory. The effect on USMC readiness will be mitigated by the submission of a reprogramming action to return the sales proceeds from the U.S. Treasury's general receipts account to the USMC's H-1 upgrades program.

Transmittal No. 11-31

Notice of Proposed Issuance of Letter of Offer Pursuant to Section 36(b)(1) of the Arms Export Control Act

Annex

Item No. vii

(vii) Sensitivity of Technology:

1. The AH-1W SUPER COBRA attack helicopter and the basic associated systems operation manuals are Unclassified. The tactic operations manuals are Confidential.

2. If a technically advanced adversary were to obtain knowledge of the specific hardware and software elements, the information could be used to develop countermeasures or equivalent systems which might reduce weapon system effectiveness or be used in the development of a system with similar or advanced capabilities.

[FR Doc. 2011-28545 Filed 11-3-11; 8:45 am]

BILLING CODE 5001-06-P